DEPARTMENT OF ENERGY

Federal Energy Regulatory Commission

[Docket No. PL02-3-000]

Guidelines for Ensuring and Maximizing the Quality, Objectivity, Utility, and Integrity of Disseminated Information; Statement of Policy on Maximizing the Quality, Objectivity, Utility, and Integrity of Disseminated Information and Reqyest for Comments

April 30, 2002.

AGENCY: Federal Energy Regulatory Commission.

ACTION: Notice, availability of draft report with Proposed guidelines and request for comments.

SUMMARY: Section 515 of the Treasury and General Government Appropriations Act for Fiscal Year 2001 (Public Law 106-554), directed the Office of Management and Budget (OMB) to issue government-wide guidelines to “provide policy and procedural guidance to Federal agencies for ensuring and maximizing the quality, objectivity, utility, and integrity of information (including statistical information) disseminated by Federal agencies.” OMB's final guidelines were published on February 22, 2002. 67 FR 8452 (2002). Agencies are directed to issue implementing guidelines by October 1, 2002. The Federal Energy Regulatory Commission (FERC or Commission) is issuing and requesting comments on these draft guidelines as part of this process.

DATES: Comments are due June 7, 2002.

ADDRESSES: Federal Energy Regulatory Commission, 888 First Street, NE., Washington, DC 20426.

FOR FURTHER INFORMATION CONTACT: Elizabeth A. Taylor, Office of the Chief Information Officer, Federal Energy Regulatory Commission, 888 First Street, Washington, DC 20426, (202)208-0826, e-mail: Elizabeth.Taylor@ferc.gov.

SUPPLEMENTARY INFORMATION: In section 515 of the Treasury and General Government Appropriations Act for Fiscal Year 2001 (Public Law 106-554), Congress directed the Office of Management and Budget (OMB) to issue by September 30, 2001, government-wide guidelines that provide policy and procedural guidance to Federal agencies for ensuring and maximizing the quality, objectivity, utility, and integrity of information (including statistical information) disseminated by Federal agencies. (OMB subsequently revised its guidelines to reflect comments by federal agencies and this revision as noted above was noticed in the Federal Register on February 22, 2002).

Section 515 directs agencies subject to the Paperwork Reduction Act (44 U.S.C. 3502(1)) to:

1. Issue their own information quality guidelines ensuring and maximizing the quality, objectivity, utility, and integrity of information, including statistical information, disseminated by the agency no later than one year after the date of issuance of the OMB guidelines;

2. Establish administrative mechanisms allowing affected persons to seek and obtain correction of information maintained and disseminated by the agency that does not comply with the OMB guidelines; and

3. Report annually, beginning January 1, 2004, to the Director of OMB the number and nature of requests for correction received by the agency regarding agency compliance with these OMB guidelines concerning the quality, objectivity, utility, and integrity of information and how such requests for correction were resolved.

The FERC's draft guidelines are included as Attachment A. The request for correction and request for reconsideration processes are described in Attachment B. Attachments A and B are available on the FERC website at http://www.ferc.gov/ and in the Public Reference Room, 888 First Street., NE., Washington, DC 20426 (202-208-1371, extension 0, or Public.ReferenceRoom@FERC.fed.us).

Magalie R. Salas,
Secretary.

[FR Doc. 02-11149 Filed 5-3-02; 8:45 am]

BILLING CODE 6717-01-P